DEPARTMENT OF TRANSPORTATION

Federal Motor Carrier Safety Administration

[Docket No. FMCSA-2021-0052]

Hours of Service (HOS) of Drivers; American Pyrotechnics Association (APA)

AGENCY: Federal Motor Carrier Safety Administration (FMCSA), Department of Transportation (DOT).

ACTION: Notice of application for exemptions; request for comments.

SUMMARY: FMCSA requests public comment on the APA's application for exemptions from certain hours-of-service (HOS) regulations. Previous similar exemptions expired on July 8, 2024. The exemptions would allow drivers to exclude off-duty and sleeper berth time of any length from the calculation of the 14-hour limit and to use paper records of duty status (RODS) in lieu of an electronic logging device (ELD) during the designated period of June 28 through July 8 (Independence Day period). The requests are for the transportation of pyrotechnics during the Independence Day period of every year from 2025 through 2029.

DATES: Comments must be received on or before May 19, 2025.

ADDRESSES: You may submit comments identified by Docket Number FMCSA-2021-0052 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: 1200 New Jersey SE, West Building, Ground Floor, Washington, DC 20590-0001, between 9 a.m. and 5 p.m., Monday through Friday, except Federal holidays.

• Fax: (202) 493-2251.

To avoid duplication, please use only one of these four methods. Each submission must include the Agency name and the docket number (FMCSA-2021-0052) for this notice. Note that DOT posts all comments received without change to www.regulations.gov, including any personal information included in a comment. Please see the Privacy Act heading below.

Docket: To view any documents mentioned as being available in the docket, go to https://www.regulations.gov/docket/FMCSA-2021-0052 document and choose the document to review. To view comments, click this notice, then click “Browse Comments.” If you do not have access to the internet, you may view the docket online by visiting Dockets Operations on the ground floor of the West Building, 1200 New Jersey Avenue SE, Washington, DC 20590-0001, between 9 a.m. and 5 p.m. Monday through Friday, except Federal holidays. To be sure someone is there to help you, please call (202) 366-9317 or (202) 366-9826 before visiting Dockets Operations.

Privacy Act: In accordance with 49 U.S.C. 31315(b), DOT solicits comments from the public to better inform its exemption process. DOT posts these comments, including any personal information the commenter provides, to www.regulations.gov, as described in the system of records notice DOT/ALL-14 FDMS, which can be reviewed under the “Department Wide System of Records Notices” link at https://www.transportation.gov/individuals/privacy/privacy-act-system-records-notices. The comments are posted without edit and are searchable by the name of the submitter.

FOR FURTHER INFORMATION CONTACT: Ms. Pearlie Robinson, Driver and Carrier Operations Division; Office of Carrier, Driver and Vehicle Safety Standards, FMCSA; 1200 New Jersey Avenue SE, Washington, DC 20590-0001; (202) 366-4225; pearlie.robinson@dot.gov. If you have questions on viewing or submitting material to the docket, contact Dockets Operations at (202) 366-9826.

SUPPLEMENTARY INFORMATION:

I. Public Participation and Request for Comments

FMCSA encourages you to participate by submitting comments and related materials.

A. Submitting Comments

If you submit a comment, please include the docket number for this notice (FMCSA-2021-0052), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/docket/FMCSA-2021-0052/document, click on this notice, click “Comment,” and type your comment into the text box on the following screen.

If you submit your comments by mail or hand delivery, submit them in an unbound format, no larger than 8½ by 11 inches, suitable for copying and electronic filing.

FMCSA will consider all comments and material received during the comment period. Comments received after the comment closing date will be filed in the public docket and will be considered to the extent practicable.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001; brian.g.dahlin@dot.gov. At this time, you need not send a duplicate hardcopy of your electronic CBI submissions to FMCSA headquarters. Any comments FMCSA receives not specifically designated as CBI will be placed in the public docket for this notice.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including any safety analyses that have been conducted. The Agency must provide an opportunity for public comment on the request.

The Agency reviews safety analyses and public comments submitted and determines whether granting the exemption would likely achieve a level of safety equivalent to, or greater than, the level that would be achieved absent such exemption pursuant to the standard set forth in 49 U.S.C 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Applicant's Request

APA requests renewal of its HOS exemptions from the 14-hour rule in 49 CFR 395.3(a)(2) and the ELD rule in 49 CFR 395.8(a)(1)(i) for 42 companies that previously held exemptions issued on December 28, 2022 [87 FR 79935] or waivers issued on June 24, 2024, that expired on July 8, 2024. In addition, APA requests that two companies that previously did not hold exemptions be included in the request. The companies being considered for the HOS exemptions are listed under Exhibits A and B in the docket for this notice.

The exemptions would allow drivers to exclude off-duty and sleeper berth time of any length from the calculation of the 14-hour limit and to use paper records of duty status in lieu of an electronic logging device (ELD) during the designated Independence Day periods. APA asserts that compliance with the 14-hour rule is extraordinarily challenging for members of the fireworks industry during the Independence Day period. Most fireworks display shows are transported by pyrotechnicians with hazardous material safety permits in small rented or leased commercial motor vehicles which do not have sleeper berths. The pyrotechnician drives the display equipment and fireworks to the site, supervises the crew in setting up the display, waits for the display time, fires the display, and returns the equipment and remaining fireworks to a licensed storage facility.

To meet the demand for fireworks without the exemptions, APA states that its members would need to hire a second driver for most trips, which would substantially increase the cost of the fireworks shows. APA states that its members have demonstrated over two decades that the exemption will achieve an equivalent level of safety. APA also reports that its members have agreed to provide additional training to their drivers operating under the exemption on the importance of proper rest periods during the workday. APA notes that actual driving time is a small portion of the maximum 11 hours of driving time allowed under 49 CFR 395.3(a)(3). APA states that the exemption allows its members to ensure that their drivers are qualified pyrotechnicians who have extensive training and experience to manage the fireworks safely.

APA member companies have held waivers or exemptions during Independence Day periods each year since 2005. Copies of the initial request for exemptions, subsequent renewal requests, and all public comments received may be reviewed at www.regulations.gov under docket numbers FMCSA-2005-21104, FMCSA-2007-28043, FMCSA-2018-0140, and FMCSA-2021-0052.

A copy of the APA's application for exemptions and attachments are available for review in the docket for this notice.

IV. Request for Comments

In accordance with 49 U.S.C. 31315(b), FMCSA requests public comment from all interested persons on APA's application for exemptions from 49 CFR 395.3(a)(2) and 395.8(a)(1)(i). All comments received before the close of business on the comment closing date indicated at the beginning of this notice will be considered and will be available for examination in the docket at the location listed under the Addresses section of this notice. Comments received after the comment closing date will be filed in the public docket and will be considered to the extent practicable. In addition to late comments, FMCSA will also continue to file, in the public docket, relevant information that becomes available after the comment closing date. Interested persons should continue to examine the public docket for new material.

Larry W. Minor,
Associate Administrator for Policy.

Appendix to Notice of Applications for Renewal of APA Exemptions From the 14-Hour and ELD HOS Rules for Independence Day Periods June 28, Through July 8, During 2025 Through 2029, for 44 Motor Carriers

| Motor carrier | Street address | City, state, zip code | DOT No.
1 | American Fireworks Display, LLC | 105 County Route 7 | McDonough, NY 13801 | 2115608
2 | AM Pyrotechnics, LLC | 2429 East 535th Rd | Buffalo, MO 65622 | 1034961
3 | Arthur Rozzi Pyrotechnics | 6607 Red Hawk Ct | Maineville, OH 45039 | 2008107
4 | Artisan Pyrotechnics, Inc | 82 Grace Road | Wiggins, MS 39577 | 1898096
5 | Celebration Fireworks, Inc | 7911 7th Street | Slatington, PA 18080 | 1527687
6 | CP Transport, LLC | 6377 Hwy. 62 NE | Lanesville, IN 47136 | 3076205
7 | Extreme Logistics, LLC | 26926 Hardy Run | Boerne, TX 78015 | 1971328
8 | Falcon Fireworks | 3411 Courthouse Road | Guyton, GA 31312 | 1037954
9 | Fireworks & Stage FX America | 12650 Hwy 67S. Suite B | Lakeside, CA 92040 | 908304
10 | Fireworks by Grucci, Inc | 20 Pinehurst Drive | Bellport, NY 11713 | 324490
11 | Aluminum King Mfg., Ltd. dba Flashing Thunder Fireworks | 700 E Van Buren Street | Mitchell, IA 50461 | 420413
12 | Great Lakes Fireworks | 24805 Marine | Eastpointe, MI 48021 | 1011216
13 | Hamburg Fireworks Display, Inc | 2240 Horns Mill SE | Lancaster, OH | 395079
14 | *Hawaii Explosives & Pyrotechnics, Inc | P.O. Box 1244 | Keaau, HI 96749 | 1375918
15 | Herbie's Famous Fireworks | 1406 Cherokee Falls Rd | Blacksburg, SC 29702 | 0112743
16 | J&J Computing dba Fireworks Extravaganza | 174 Route 17 North | Rochelle Park, NJ 07662 | 2064141
17 | J&M Displays, Inc | 18064 170th Ave | Yarmouth, IA 52660 | 377461
18 | *JPI Pyrotechnics LLC | 10 Bartlett St | Allenstown, NH 03275 | 2783896
19 | Johnny Rockets Fireworks Display Company | 3240 Love Rock | Steger, IL 60475 | 1263181
20 | Las Vegas Display Fireworks, Inc | 4325 West Reno Ave | Las Vegas, NV 89118 | 3060878
21 | Legion Fireworks Co., Inc | 10 Legion Lane | Wappingers Falls, NY 12590 | 554391
22 | Magic in the Sky, LLC | 27002 Campbellton Road | San Antonio, TX 78264 | 2134163
23 | Miand Inc. dba Planet Productions (Mad Bomber) | PO Box 294, 3999 Hupp Road R31 | Kingsbury, IN 46345 | 777176
24 | Pyro Productions Inc | 2083 Helms Road | Rehobeth, AL 36301 | 3723192
25 | Pyro Shows, East Coast | 4652 Catawba River Road | Catawba, SC 29704 | 3709087
26 | Pyro Shows of Alabama, Inc | 3325 Poplar Lane | Adamsville, AL 35005 | 2859710
27 | Pyro Shows of Texas, Inc | 6601 9 Mile Azle Rd | Fort Worth, TX 76135 | 2432196
28 | Pyro Spectaculars, Inc. | 3196 N Locust Ave | Rialto, CA 92376 | 029329
29 | Pyro Spectaculars North, Inc | 5301 Lang Avenue | McClellan, CA 95652 | 1671438
30 | Pyrotecnico Fireworks Inc | 299 Wilson Rd | New Castle, PA 16105 | 526749
31 | Rainbow Fireworks, Inc | 76 Plum Ave | Inman, KS 67546 | 1139643
32 | RES Specialty Pyrotechnics dba RES Pyro | 21595 286th St | Belle Plaine, MN 56011 | 523981
33 | RKM Fireworks Company | 27383 May St | Edwardsburg, MI 49112 | 1273436
34 | Rozzi's Famous Fireworks, Inc | 118 Karl Brown Way | Loveland, OH 45140 | 0483686
35 | Santore's World Famous Fireworks, LLC | 846 Stillwater Bridge Road | Schaghticoke, NY 12154 | 2574135
36 | Southern Sky Fireworks, LLC | 6181 Denham Rd | Sycamore, GA 31790-2603 | 3168056
37 | Spielbauer Fireworks Co, Inc | 1976 Lane Road | Green Bay, WI 54311 | 046479
38 | Special FX Wizard, Inc | Box 266 | Mastick Beach, NY 11951 | 3442905
39 | Starfire Corporation | 682 Cole Road | Carrolltown, PA 15722 | 554645
40 | Vermont Fireworks Co., dba Northstar Fireworks Co., Inc | 2235 Vermont Route 14 South | East Montpelier, VT 05651 | 310632
41 | Western Display Fireworks, Ltd | 10946 S. New Era Rd | Canby, OR 97013 | 498941
42 | Wolverine Fireworks Display, Inc | 205 W Seidlers | Kawkawlin, MI | 376857
43 | Young Explosives Corp | 2165 New Michigan Rd | Canandaigua, NY 14618 | 450304
44 | Zambelli Fireworks MFG, Co., Inc | 120 Marshall Drive | Warrendale, PA 15086 | 033167

[FR Doc. 2025-06685 Filed 4-17-25; 8:45 am]

BILLING CODE 4910-EX-P